DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

On April 24, 2023, OFAC determined that the property and interests in property subject to U.S. jurisdiction of the following persons are blocked under the relevant sanctions authorities listed below.

Individuals

1. WU, Huihui (a.k.a. “FAST4RELEASE”; a.k.a. “WAKEMEUPUPUP”), China; DOB 15 Dec 1988; POB Shandong, China; nationality China; Gender Male; Digital Currency Address—XBT 1986rYHckYbJpGQJy6ornuMyD2N5MTqwDt; alt. Digital Currency Address—XBT 125W5ek3DT6Zqy5S2iPt4FHQdNMCbZA3FU; alt. Digital Currency Address—XBT 1Kc6egXevyLEaeTxLFA1Zyw7GuhCN8jQtt; alt. Digital Currency Address—XBT 12w6v1qAaBc4W8h8C2Cu5SKFaKDSv3erUW; alt. Digital Currency Address—XBT 1CPJak9ZyddbawMGJPyEhCiJLXXb4sYv8N; alt. Digital Currency Address—XBT 1DJoVLgn1foJHHngduRPJvRbwpaFEKxvxd; alt. Digital Currency Address—XBT 15kZobLkD6HZgEECtz4oS2Vz21XHTnNfSg; alt. Digital Currency Address—XBT 15qyVrZvvVGvB7GWiAZ82TNcZ6QWMKu3kx; alt. Digital Currency Address—XBT 12YCfVAEzkEZXBYhUTyJJaRkgMXiFxJgcu; alt. Digital Currency Address—XBT 1MkCnCa9agS5t6V1B15bzusBgYECB4LfWp; alt. Digital Currency Address—XBT 1NuBZQXJPyYQGfoBib8wWBDpZmbtkJa5Ba; alt. Digital Currency Address—XBT 14rjAD8ZP5xaL571cMRE98qgxxbg1S8mAN; alt. Digital Currency Address—XBT 18yWCu6agTxYqAerMxiz9sgHrK3ViezzGa; alt. Digital Currency Address—XBT 12jVCWW1ZhTLA5yVnroEJswqKwsfiZKsax; alt. Digital Currency Address—XBT 1J378PbmTKn2sEw6NBrSWVfjZLBZW3DZem; alt. Digital Currency Address—XBT 18aqbRhHupgvC9K8qEqD78phmTQQWs7B5d; alt. Digital Currency Address—XBT 16ti2EXaae5izfkUZ1Zc59HMcsdnHpP5QJ; Secondary sanctions risk: North Korea Sanctions Regulations, sections 510.201 and 510.210; Transactions Prohibited For Persons Owned or Controlled By U.S. Financial Institutions: North Korea Sanctions Regulations section 510.214; Passport E59165201 (China) expires 01 Sep 2025; Identification Number 371326198812157611 (China) (individual) [DPRK3] (Linked To: LAZARUS GROUP).

Designated pursuant to section 2(a)(vii) of Executive Order 13722, “Blocking Property of the Government of North Korea and the Workers' Party of Korea, and Prohibiting Certain Transactions With Respect to North Korea” (E.O. 13722), for having materially assisted, sponsored, or provided financial, material, or technological support for, or goods or services to or in support of, LAZARUS GROUP, a person whose property and interests in property are blocked pursuant to E.O. 13722.

2. CHENG, Hung Man, Hong Kong, China; DOB 28 Mar 1964; POB Hong Kong; nationality United Kingdom; Gender Male; Secondary sanctions risk: North Korea Sanctions Regulations, sections 510.201 and 510.210; Transactions Prohibited For Persons Owned or Controlled By U.S. Financial Institutions: North Korea Sanctions Regulations section 510.214; Passport 752079640 (United Kingdom); Identification Number G563542(9) (Hong Kong) (individual) [DPRK3] (Linked To: WU, Huihui).

Designated pursuant to section 2(a)(vii) of E.O. 13722 for having materially assisted, sponsored, or provided financial, material, or technological support for, or goods or services to or in support of, WU HUIHUI, a person whose property and interests in property are blocked pursuant to E.O. 13722.

3. SIM, Hyon Sop (a.k.a. SIM, Hyo'n-so'p), Dandong, China; DOB 25 Nov 1983; POB Pyongyang, North Korea; nationality Korea, North; Gender Male; Digital Currency Address—ETH 0x4f47bc496083c727c5fbe3ce9cdf2b0f6496270c; Secondary sanctions risk: North Korea Sanctions Regulations, sections 510.201 and 510.210; Transactions Prohibited For Persons Owned or Controlled By U.S. Financial Institutions: North Korea Sanctions Regulations section 510.214; Digital Currency Address—ARB 0x4f47bc496083c727c5fbe3ce9cdf2b0f6496270c; Digital Currency Address—BSC 0x4f47bc496083c727c5fbe3ce9cdf2b0f6496270c; Passport 109484100 (Korea, North) expires 24 Dec 2024 (individual) [NPWMD] (Linked To: KOREA KWANGSON BANKING CORP).

Designated pursuant to section 1(a)(iv) of Executive Order 13382, “Blocking Property of Weapons of Mass Destruction Proliferators and Their Supporters” (E.O. 13382), for acting or purporting to act for or on behalf of, directly or indirectly, KOREA KWANGSON BANKING CORP, a person whose property and interests in property are blocked pursuant to E.O. 13382.

Authorities: E.O. 13722, 81 FR 14943, 3 CFR, 2016 comp., p. 446 and E.O. 13382, 70 FR 38567, 3 CFR, 2005 comp., p. 170.

Dated: April 24, 2023.
Andrea Gacki,
Director, Office of Foreign Assets Control, U.S. Department of the Treasury.

[FR Doc. 2023-08944 Filed 4-26-23; 8:45 am]

BILLING CODE 4810-AL-P